DEPARTMENT OF THE INTERIOR

Bureau of Reclamation

[XXXR4081X1, RN.20350010.REG0000, RR04084000]

Colorado River Basin Salinity Control Advisory Council

AGENCY: Bureau of Reclamation, Interior.

ACTION: Notice of public meeting.

SUMMARY: The Colorado River Basin Salinity Control Advisory Council (Council) was established by the Colorado River Basin Salinity Control Act of 1974 (Pub. L.93-320) (Act) to receive reports and advise Federal agencies on implementing the Act. In accordance with the Federal Advisory Committee Act, the Bureau of Reclamation announces that the Council will meet as detailed below. The meeting of the Council is open to the public.

DATES: The Council will convene the meeting on Wednesday, December 11, 2013, at 1:30 p.m. and adjourn at approximately 2:30 p.m.

ADDRESSES: The meeting will be held in the Conference Center of Caesars Palace, Tarranto Room, 3570 Las Vegas Boulevard South, Las Vegas, Nevada 89109. Send written comments to Mr. Kib Jacobson, Bureau of Reclamation, Upper Colorado Regional Office, 125 South State Street, Room 6107, Salt Lake City, Utah 84138-1147; telephone (801) 524-3753; facsimile (801) 524-3847; email at: kjacobson@usbr.gov.

FOR FURTHER INFORMATION CONTACT: Kib Jacobson, telephone (801) 524-3753; facsimile (801) 524-3847; email at: kjacobson@usbr.gov.

SUPPLEMENTARY INFORMATION: Any member of the public may file written statements with the Council before, during, or up to 30 days after the meeting either in person or by mail. To the extent that time permits, the Council chairman will allow public presentation of oral comments at the meeting. To allow full consideration of information by Council members, written notice must be provided at least 5 days prior to the meeting. Any written comments received prior to the meeting will be provided to Council members at the meeting.

The purpose of the meeting is to discuss: (1) Funding recommendations to Reclamation for use of funds from the Lower Colorado River Basin Development Fund and to fund 50 percent of an agreement with the U.S. Fish and Wildlife Service; (2) input for drafting the Council's annual report; and (3) the Charter that is due to be renewed in the coming year.

The Council planned to meet October 23-24, 2013, in Los Angeles, California. However, due to the government shutdown, notice of the meeting could not be published in the Federal Register and the meeting was not held. Since Council members from each of the seven Colorado River Basin states are planning to attend the Colorado River Water Users Association (CRWUA) annual conference in Las Vegas, Nevada, on December 11-13, 2013, the Council decided to hold a short meeting in conjunction with the CRWUA conference. Council members not in Las Vegas will participate by conference call. Reclamation will not be reimbursing travel expenses for the Council members.

Public Disclosure

Before including your address, phone number, email address, or other personal identifying information in your comment, please be advised that your entire comment—including your personal identifying information—may be made publicly available at any time. While you can ask us in your comment to withhold your personal identifying information from public review, we cannot guarantee that we will be able to do so.

Dated: October 31, 2013.
Larry Walkoviak,
Regional Director, Upper Colorado Region.

[FR Doc. 2013-28291 Filed 11-25-13; 8:45 am]

BILLING CODE 4310-MN-P